NATIONAL SCIENCE FOUNDATION

Business and Operations Advisory Committee; Notice of Meeting

In accordance with Federal Advisory Committee Act (Pub. L. 92-463, as amended), the National Science Foundation announces the following meeting:

Name: Business and Operations Advisory Committee (9556).

Date/Time: May 29, 2008; 1 p.m. to 5:30 p.m. (EST). May 30, 2008; 8 a.m. to 12 p.m. (EST).

Place: National Science Foundation, 4201 Wilson Boulevard, Room 375.

Type of Meeting: Open.

Contact Person: Joan Miller, National Science Foundation, 4201 Wilson Boulevard, Arlington, VA 22230 (703) 292-8200.

Purpose of Meeting: To provide advice concerning issues related to the oversight, integrity, development and enhancement of NSF's business operations.

Agenda

May 29, 2008

P.M.: Welcome/Introductions; Human Capital Strategic Plan; FY08 Budget Implications and FY09 Budget Highlights; Office of Information and Resource Management Update; Committee Discussion; Meeting with NSF Director; Chief Information Officer Update.

May 30, 2008

A.M.: Office of Budget, Finance and Award Management Update; Business System Review Subcommittee Update; Presentation and Discussion—Stewardship Goals and Performance Measures; Presentation—NSB Task Force on Cost Sharing; Presentation—Research.gov; Committee Discussion/Wrap-Up.

Dated: April 24, 2008.
Susanne Bolton,
Committee Management Officer.

[FR Doc. E8-9354 Filed 4-28-08; 8:45 am]

BILLING CODE 7555-01-P